DEPARTMENT OF HEALTH AND HUMAN SERVICES

National Institutes of Health

Center For Scientific Review; Amended Notice of Meeting

Notice is hereby given of a change in the meeting of the Community Influences on Health Behavior Study Section, February 14, 2023, 9:30 a.m. to February 15, 2023, 6:00 p.m. The Westin Washington, DC City Center, 1400 M St. NW, Washington, DC which was published in the Federal Register on January 24, 2023, 88 FR 4194.

This meeting is being amended to change the name of the hotel from The Westin Washington, DC City Center Hotel, 1400 M Street NW, Washington, DC 20005 to the Doubletree Hotel Tysons, 1960 Chain Bridge Road, McLean, VA 22101. The meeting is closed to the public.

Dated: January 24, 2023.
David W Freeman,
Program Analyst, Office of Federal Advisory Committee Policy.

[FR Doc. 2023-01727 Filed 1-26-23; 8:45 am]

BILLING CODE 4140-01-P